DEPARTMENT OF THE TREASURY

Internal Revenue Service

Office of the General Counsel; Appointment of Members of the Legal Division to the Performance Review Board, Internal Revenue Service

Under the authority granted to me as Chief Counsel of the Internal Revenue Service by the General Counsel of the Department of the Treasury by General Counsel Order No. 21 (Rev. 4), pursuant to the Civil Service Reform Act, I have appointed the following persons to the Legal Division Performance Review Board, Internal Revenue Service Panel:

1. Chairperson, Donald T. Rocen, Deputy Chief Counsel (Operations)

2. William D. Alexander, Associate Chief Counsel (Corporate)

3. Peter Labelle, Division Counsel (Large and Mid-Size Business)

4. Catherine Livingston, Assistant Chief Counsel (Exempt Organizations/Employment/ Tax/Government Entities)

5. Patricia Donahue, Area Counsel, Division Counsel (Small Business/Self-Employed) This publication is required by 5 U.S.C. 4314(c)(4).

Dated: September 13, 2005.
Donald L. Korb,
Chief Counsel, Internal Revenue Service.

[FR Doc. 05-18803 Filed 9-20-05; 8:45 am]

BILLING CODE 4830-01-P